SECURITIES AND EXCHANGE COMMISSION

[Release No. 34-96290; File No. SR-MRX-2022-19]

Self-Regulatory Organizations; Nasdaq MRX, LLC; Notice of Withdrawal of Proposed Rule Change To Amend Options 7, Section 5 To Add Membership and Trading Rights Fees

November 9, 2022.

On October 5, 2022, Nasdaq MRX, LLC (“MRX”) filed with the Securities and Exchange Commission (“Commission”), pursuant to Section 19(b)(1) of the Securities Exchange Act of 1934 ¹ and Rule 19b-4 thereunder,² a proposed rule change to assess membership and trading rights fees. The proposed rule change was published for comment in the Federal Register on October 18, 2022.³

¹ 15 U.S.C. 78s(b)(1).

² 17 CFR 240.19b-4.

³ See Securities Exchange Act Release No. 96047 (October 12, 2022), 87 FR 63131.

On November 1, 2022, MRX withdrew the proposed rule change (SR-MRX-2022-19).

For the Commission, by the Division of Trading and Markets, pursuant to delegated authority.⁴
⁴ 17 CFR 200.30-3(a)(12).
J. Matthew DeLesDernier,
Deputy Secretary.

[FR Doc. 2022-24893 Filed 11-15-22; 8:45 am]

BILLING CODE 8011-01-P